DEPARTMENT OF HEALTH AND HUMAN SERVICES

Administration for Children and Families

Proposed Information Collection Activity; Comment Request

Proposed Projects

Title: Adoption and Foster Care Analysis Reporting System for title IV-B and title IV-E.

OMB No.: 0980-0267.

Description

Section 479 of title IV-E of the Social Security Act directs States to establish and implement an adoption and foster care reporting system. The data are used for a number of reasons, including responding to Congressional requests for current data on children in foster care or those who have been adopted; responding to questions and requests from other Federal departments and agencies; trend analyses and short- and long-term planning; targeting areas for greater or potential technical assistance efforts; and determining and assessing outcomes for children and families.

Respondents: States, District of Columbia and Puerto Rico.

Annual Burden Estimates
Instrument | Number of respondents | Number of responses per respondent | Average burden hours per response | Total burden hours
AFCARS (Electronic Submission) | 52 | 2 | 2,971.89 | 309,077

Estimated Total Annual Burden Hours: 309,077.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 23, 2005
Robert Sargis,
Reports Clearance Officer.

[FR Doc. 05-6170 Filed 3-28-05; 8:45 am]

BILLING CODE 4184-01-M